DEPARTMENT OF TRANSPORTATION

Federal Aviation Administration

14 CFR Part 39

[Docket No. FAA-2012-0995; Directorate Identifier 2012-NM-056-AD; Amendment 39-17291; AD 2012-25-10]

RIN 2120-AA64

Airworthiness Directives; Airbus Airplanes

AGENCY: Federal Aviation Administration (FAA), Department of Transportation (DOT).

ACTION: Final rule.

SUMMARY: We are adopting a new airworthiness directive (AD) for all Airbus Model A330-300 series airplanes and Model A340-200 and -300 series airplanes. This AD was prompted by reports that, during a flight test, several spoiler servo-controls (SSCs) did not remain locked in the retracted position (hydraulic locking function) after manual depressurization of the corresponding hydraulic circuit. Loss of that locking function—which is ensured by a blocking valve—was caused by an internal leak from a sheared seal on the blocking valve. This AD requires inspecting to determine if certain SSCs are installed, performing an operational test of any affected SSC, and replacing if necessary. We are issuing this AD to prevent loss of the hydraulic locking function during take-off and go-around phases, which, in combination with malfunction of one engine, could result in reduced controllability of the airplane.

DATES: This AD becomes effective January 31, 2013.

The Director of the Federal Register approved the incorporation by reference of certain publications listed in this AD as of January 31, 2013.

ADDRESSES: You may examine the AD docket on the Internet at http://www.regulations.gov or in person at the U.S. Department of Transportation, Docket Operations, M-30, West Building Ground Floor, Room W12-140, 1200 New Jersey Avenue SE., Washington, DC.

FOR FURTHER INFORMATION CONTACT: Vladimir Ulyanov, Aerospace Engineer, International Branch, ANM-116, Transport Airplane Directorate, FAA, 1601 Lind Avenue SW., Renton, Washington 98057-3356; telephone (425) 227-1138; fax (425) 227-1149.

SUPPLEMENTARY INFORMATION:

Discussion

We issued a notice of proposed rulemaking (NPRM) to amend 14 CFR part 39 to include an AD that would apply to the specified products. That NPRM was published in the Federal Register on September 20, 2012 (77 FR 58327). That NPRM proposed to correct an unsafe condition for the specified products. The Mandatory Continuing Airworthiness Information (MCAI) states:

Two operators have reported that several spoilers did not remain locked in the retracted position (lifted up without order) after manual depressurization of the corresponding hydraulic circuit during flight test.

Subsequent checks on ground confirmed that, for each affected spoiler surface, the spoiler was fitted with one MZ-type Spoiler Servo Control (SSC) (Part Number (P/N) MZ4339390-12 or P/N MZ4306000-12).

The results of the investigations on the affected SSCs, done by the supplier, revealed that the loss of the hydraulic locking function—which is ensured by a blocking valve—was due to an internal leakage caused by a sheared seal. This seal is installed at the left end of the blocking valve.

During the on-wing modification of the maintenance cover, blocking valve movement may have damaged the seal on the outer diameter of the blocking valve assembly, causing the loss of the hydraulic locking function.

This condition, if not detected and corrected, if occurring during take-off and go-around phases in combination with one engine inoperative, could jeopardize the aeroplane safe flight.

For the reasons described above, this [EASA] AD requires the identification of the installed SSCs, to perform an operational test of the hydraulic locking function of the affected SSCs and to accomplish the applicable corrective actions if any discrepancy is detected during the operational test. This [EASA] AD also requires reporting operational test results to Airbus.

You may obtain further information by examining the MCAI in the AD docket.

Comments

We gave the public the opportunity to participate in developing this AD. We received no comments on the NPRM (77 FR 58327, September 20, 2012) or on the determination of the cost to the public.

Conclusion

We reviewed the available data and determined that air safety and the public interest require adopting the AD as proposed.

Costs of Compliance

We estimate that this AD will affect 61 products of U.S. registry. We also estimate that it will take up to 7 work-hours per product to comply with the basic requirements of this AD. The average labor rate is $85 per work-hour. Based on these figures, we estimate the cost of the AD on U.S. operators to be $36,295, or $595 per product.

In addition, we estimate that any necessary follow-on actions would take about 36 work-hours and require parts costing $34,928, for a cost of $37,988 per affected SSC. We have no way of determining the number of products that may need these actions.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains the NPRM (77 FR 58327, September 20, 2012), the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2012-25-10 Airbus: Amendment 39-17291. Docket No. FAA-2012-0995; Directorate Identifier 2012-NM-056-AD.

(a) Effective Date

This airworthiness directive (AD) becomes effective January 31, 2013.

(b) Affected ADs

None.

(c) Applicability

This AD applies to all Airbus Model A330-301, -302, -303, -321, -322, -323, -341, -342, and -343 airplanes; and Model A340-211, -212, -213, -311, -312, and -313 airplanes; certificated in any category; all manufacturer serial numbers.

(d) Subject

Air Transport Association (ATA) of America Code 27: Flight controls.

(e) Reason

This AD was prompted by reports that, during flight test, several spoiler servo-controls (SSCs) did not remain locked in the retracted position (hydraulic locking function) after manual depressurization of the corresponding hydraulic circuit. Loss of that locking function—which is ensured by a blocking valve—was caused by an internal leak from a sheared seal on the blocking valve. We are issuing this AD to prevent loss of the hydraulic locking function during take-off and go-around phases, which, in combination with malfunction of one engine, could result in reduced controllability of the airplane.

(f) Compliance

You are responsible for having the actions required by this AD performed within the compliance times specified, unless the actions have already been done.

(g) Actions

Within 90 days after the effective date of this AD: Inspect to determine the part number (P/N) of all SSCs installed, in accordance with Airbus All Operators Telex (AOT) A330-27A3185 (for Model A330-300 series airplanes) or A340-27A4181 (for Model A340-200 and -300 series airplanes), both dated January 4, 2012. A review of airplane maintenance records is acceptable in lieu of the inspection to identify the part number of the SSC installed, provided that part number can be conclusively determined from that review.

(1) For any SSC having P/N MZ4339390-12 or P/N MZ4306000-12 (MZ-type): Within 90 days after identification of the part, perform an operational test of the hydraulic locking function at each position fitted with an MZ-type SSC, in accordance with Airbus AOT A330-27A3185 (for Model A330-300 series airplanes) or A340-27A4181 (for Model A340-200 and -300 series airplanes), both dated January 4, 2012.

(2) If any discrepancy is detected during the operational test specified in paragraph (g)(1) of this AD, or if the test fails, before further flight, replace the affected SSC with a new or serviceable SSC, in accordance with Airbus AOT A330-27A3185 (for Model A330-300 series airplanes) or A340-27A4181 (for Model A340-200 and -300 series airplanes), both dated January 4, 2012.

(h) Reporting to Airbus

Submit a report of the findings of the operational test required by paragraph (g)(1) of this AD (both positive and negative) to Airbus, Customer Services, Engineering and Technical Support, 1 Rond Point Maurice Bellonte, 31707 Blagnac Cedex France, Attn: Daniel Lopez-Fernandez, SEEL6; fax: (+33) 5 61 93 04 52; email: daniel.lopez-fernandez@airbus.com; at the applicable time specified in paragraph (h)(1) or (h)(2) of this AD.

(1) If the test was done on or after the effective date of this AD: Submit the report within 30 days after the test.

(2) If the test was done before the effective date of this AD: Submit the report within 30 days after the effective date of this AD.

(i) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Vladimir Ulyanov, Aerospace Engineer, International Branch, ANM-116, Transport Airplane Directorate, FAA, 1601 Lind Avenue SW., Renton, Washington 98057-3356; telephone (425) 227-1138; fax (425) 227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: A federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 5 minutes per response, including the time for reviewing instructions, completing and reviewing the collection of information. All responses to this collection of information are mandatory. Comments concerning the accuracy of this burden and suggestions for reducing the burden should be directed to the FAA at: 800 Independence Ave. SW., Washington, DC 20591, Attn: Information Collection Clearance Officer, AES-200.

(j) Related Information

Refer to MCAI European Aviation Safety Agency Airworthiness Directive 2012-0009, dated January 13, 2012, and the service information specified in paragraph (j)(1) or (j)(2) of this AD, for related information.

(1) Airbus All Operators Telex (AOT) A330-27A3185, dated January 4, 2012.

(2) Airbus AOT A340-27A4181, dated January 4, 2012.

(k) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Airbus All Operators Telex A330-27A3185, dated January 4, 2012. The document number and issue date are identified on only the first page of this document.

(ii) Airbus All Operators Telex A340-27A4181, dated January 4, 2012. The document number and issue date are identified on only the first page of this document.

(3) For service information identified in this AD, contact Airbus SAS—Airworthiness Office—EAL, 1 Rond Point Maurice Bellonte, 31707 Blagnac Cedex, France; telephone +33 5 61 93 36 96; fax +33 5 61 93 45 80; email airworthiness.A330-A340@airbus.com; Internet http://www.airbus.com.

(4) You may review copies of the service information at the FAA, Transport Airplane Directorate, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on December 7, 2012.
Kalene C. Yanamura,
Acting Manager, Transport Airplane Directorate, Aircraft Certification Service.

[FR Doc. 2012-30369 Filed 12-26-12; 8:45 am]

BILLING CODE 4910-13-P